DEPARTMENT OF STATE

22 CFR Part 172

[Public Notice: 9144]

RIN 1400-AD75

Service of Process; Address Change; Correction

AGENCY: Department of State.

ACTION: Final rule; correcting amendment.

SUMMARY: This document contains a correction to the address for service of process on the Department of State (Public Notice 9045).

DATES: Effective May 27, 2015.

FOR FURTHER INFORMATION CONTACT: Alice Kottmyer, Office of the Legal Adviser, Department of State; phone: 202-647-2318, kottmyeram@state.gov.

SUPPLEMENTARY INFORMATION: The Department of State published a final rule on March 6, 2015 (80 FR 12081-12082), changing the address for service of process on the Department. This document corrects the zip code in that address.

List of Subjects in 22 CFR Part 172

Service of process.

As stated above, title 22, part 172, is amended by making the following correcting amendment:

PART 172—SERVICE OF PROCESS; PRODUCTION OR DISCLOSURE OF OFFICIAL INFORMATION IN RESPONSE TO COURT ORDERS, SUBPOENAS, NOTICES OF DEPOSITIONS, REQUESTS FOR ADMISSIONS, INTERROGATORIES, OR SIMILAR REQUESTS OR DEMANDS IN CONNECTION WITH FEDERAL OR STATE LITIGATION; EXPERT TESTIMONY

1. The authority citation for part 172 continues to read as follows:

Authority: 5 U.S.C. 301; 8 U.S.C. 1202(f); 22 U.S.C. 2658, 2664, 3926

§ 172.2 [Amended]

2. In § 172.2, in paragraph (a), correct the zip code “20036” to read “20522”.

Date: May 18, 2015.
Alice Kottmyer,
Attorney Adviser, Office of the Legal Adviser.

[FR Doc. 2015-12650 Filed 5-26-15; 8:45 am]

BILLING CODE 4710-08-P